ENVIRONMENTAL PROTECTION AGENCY

[ER-FRL-8995-2]

Environmental Impacts Statements; Notice of Availability

Responsible Agency: Office of Federal Activities, General Information (202) 564-1399 or http://www.epa.gov/compliance/nepa/.

Weekly receipt of Environmental Impact Statements filed 01/24/2011 through 01/28/2011 pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110026, Final EIS, USFWS, CA, San Diego County Water Authority Natural Community Conservation Plan/Habitat Conservation Plan, Issuing of an Incidental Take Permit, San Diego and Riverside Counties, CA, Review Period Ends: 03/07/2011, Contact: Karen Goebel, 760-431-9440.

EIS No. 20110027, Final EIS, FAA, FL,Palm Beach International Airport Project, Construction and Operation of Proposed Airfield Improvements, Funding, Palm Beach County, FL, Review Period Ends: 03/07/2011, Contact: Bart Vernace, 407-812-6331.

EIS No. 20110028, Draft EIS, USFS, OR, Howard Elliot Johnson Fuel and Vegetation Management Project, Proposed Fuels and Vegetation Treatments Reduce the Risk of Stand Loss Due to Overly Dense Stand Condition, Crook County, OR, Comment Period Ends: 03/21/2011, Contact: Marcy Anderson, 541-416-6463.

EIS No. 20110029, Revised Final EIS, USACE, FL, C-111 Spreader Canal Western Project, To Restore Ecosystem Function in Taylor Slough and Florida Bay Areas, Central and Southern Florida Project, Comprehensive Everglades Restoration Plan (CERP), Everglades National Park, Miami-Dade County, FL, Review Period Ends: 03/07/2011, Contact: Brad Tarr, 904-232-3582.

EIS No. 20110030, Draft EIS, USFS, CA, Keddie Ridge Hazardous Fuels Reduction Project, Implementation, Plumas National Forest, Mt. Hough District, Plumas County, CA, Comment Period Ends: 03/21/2011, Contact: Katherine Carpenter, 530-283-7619.

EIS No. 20110031, Final EIS, USA, 00, PROGRAMMATIC—Growth, Realignment, and Stationing of Army Aviation Assets, Evaluates Environmental Impacts of Stationing Army Combat Aviation Brigade at Fort Carson, CO and Joint Base Lewis-McChord, WA, Review Period Ends: 03/07/2011, Contact: Mike

Ackerman, 210-295-2273.

Amended Notices

EIS No. 20100045, Draft Supplement, BIA, CA, WITHDRAWN—Campo Regional Landfill Project, Construction and Operation, Permit Lease and Sublease Use of Reservation Land, Campo Indian Reservation, San Diego County, CA, Comment Period Ends: 05/12/2010, Contact: John Rydzik, 916-978-6051. Revision to FR Notice 02/26/2010: This EIS is Withdrawn by the Bureau of Indian Affairs.

EIS No. 20100480, Draft Supplement, USFS, VT, Deerfield Wind Project, Updated Information, Application for a Land Use Authorization to Construct and Operate a Wind Energy Facility, Special Use Authorization Permit, Towns of Searsburg and Readsboro, Manchester Ranger District, Green Mountain National Forest, Bennington County, VT, Comment Period Ends: 03/04/2011, Contact: Bob Bayer, 802-362-2307 Ext. 218. Revision to FR Notice Published 12/23/2010: Extending Comment Period from 02/18/2011 to 03/04/2011.

Dated: February 1, 2011.
Robert W. Hargrove,
Director, NEPA Compliance Division, Office of Federal Activities.

[FR Doc. 2011-2510 Filed 2-3-11; 8:45 am]

BILLING CODE 6560-50-P